DEPARTMENT OF TREASURY

Internal Revenue Service

Information Reporting Program Advisory Committee (IRPAC); Nominations

AGENCY: Internal Revenue Service, Department of Treasury.

ACTION: Request for Nominations.

SUMMARY: The Internal Revenue Service (IRS) requests nominations of individuals for selection to the Information Reporting Program Advisory Committee (IRPAC). Nominations should describe and document the proposed member's qualifications for IRPAC membership, including the applicant's past or current affiliations and dealings with the particular tax segment or segments of the community that he or she wishes to represent on the committee. In addition to individual nominations, the IRS is soliciting nominations from professional and public interest groups that wish to have representatives on the IRPAC. IRPAC will be comprised of 21 members. There are eight positions open for calendar year 2014. It is important that IRPAC continue to represent a diverse taxpayer and stakeholder base. Accordingly, to maintain membership diversity, selection is based on the applicant's qualifications as well as the taxpayer or stakeholder base he/she represents.

The IRPAC advises the IRS on information reporting issues of mutual concern to the private sector and the federal government. The committee works with the Commissioner of Internal Revenue and other IRS leadership to provide recommendations on a wide range of information reporting administration issues.

Membership is balanced to include representation from the tax professional community, small and large businesses, banks, insurance companies, colleges and universities, and industries such as securities, payroll, finance and software.

DATES: Written nominations must be received on or before May 31, 2013.

ADDRESSES: Nominations should be sent to: Ms. Caryl Grant, National Public Liaison, CL:NPL:SRM, Room 7559 IR, 1111 Constitution Avenue NW., Washington, DC 20224, Attn: IRPAC Nominations. Applications may be submitted via fax to 202-622-8345. Application packages are available on the IRS Web site at http://www.irs.gov/Tax-Professionals. Application packages may also be requested by telephone from National Public Liaison, 202-622-6440 (not a toll-free number).

FOR FURTHER INFORMATION CONTACT: Ms. Caryl Grant at 202-622-6440 (not a toll-free number) or PublicLiaison@irs.gov.

SUPPLEMENTARY INFORMATION: Established in 1991 in response to an administrative recommendation in the final Conference Report of the Omnibus Budget Reconciliation Act of 1989, the IRPAC works closely with the IRS to provide recommendations on a wide range of issues intended to improve the information reporting program and achieve fairness to taxpayers. Conveying the public's perception of IRS activities to the Commissioner, the IRPAC is comprised of individuals who bring substantial, disparate experience and diverse backgrounds to the Committee's activities.

Each IRPAC member is nominated by the Commissioner with the concurrence of the Secretary of Treasury to serve a three-year term. Working groups address policies and administration issues specific to information reporting. Members are not paid for their services. However, travel expenses for working sessions, public meetings and orientation sessions, such as airfare, per diem, and transportation are reimbursed within prescribed federal travel limitations.

Receipt of applications will be acknowledged, and all individuals will be notified when selections have been made. In accordance with Department of Treasury Directive 21-03, a clearance process including fingerprints, annual tax checks, a Federal Bureau of Investigation criminal check and a practitioner check with the Office of Professional Responsibility will be conducted. Federally registered lobbyists cannot be members of the IRPAC.

Equal opportunity practices will be followed for all appointments to the IRPAC in accordance with the Department of Treasury and IRS policies. The IRS has special interest in assuring that women and men, members of all races and national origins, and individuals with disabilities are welcomed for service on advisory committees: and therefore, extends particular encouragement to nominations from such appropriately qualified candidates.

Dated: March 22, 2013.
John Lipold,
Designated Federal Official, National Public Liaison.

[FR Doc. 2013-07556 Filed 3-29-13; 8:45 am]

BILLING CODE 4830-01-P